DEPARTMENT OF JUSTICE

[OMB Number 1124-0005]

Agency Information Collection Activities; Proposed eCollection eComments Requested; Extension of a Previously Approved Collection; Short Form to Registration Statement of Foreign Agents (NSD-6)

AGENCY: Foreign Agents Registration Act (FARA) Unit, Counterintelligence and Export Control Section (CES), National Security Division, U.S. Department of Justice.

ACTION: 30-Day notice.

SUMMARY: The Department of Justice (DOJ), National Security Division (NSD), will be submitting the following information collection request to the Office of Management and Budget (OMB) for review and approval in accordance with the Paperwork Reduction Act of 1995. There were three official communications received by NSD reflecting comments and recommendations. One communication was signed by fourteen individuals. The FARA Unit staff responded to each communication, satisfactorily addressing each comment and recommendation.

DATES: Comments are encouraged and will be accepted for an additional 30 days until May 13, 2020.

FOR FURTHER INFORMATION CONTACT: Written comments and recommendations for the proposed information collection should be sent within 30 days of publication of this notice to www.reginfo.gov/public/do/PRAMain . Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Short Form to Registration Statement (Foreign Agents).

3. The agency form number: Form NSD-6. The applicable component within the Department of Justice is the Foreign Agents Registration Act (FARA) Unit, Counterintelligence and Export Control Section, in the National Security Division.

4. Affected public who will be asked or required to respond, as well as a brief abstract: Primary: Private Sector, Business or other for-profit. Other: Not-for-profit institutions, and individuals.

Abstract: This form contains Short Form to Registration Statement information used for registering foreign agents under the Foreign Agents Registration Act of 1938, as amended, 22 U.S.C. 611 et seq., (FARA).

5. An estimate of the total number of respondents and the amount of time estimated for an average respondent to respond: Based on the projected increases in registrations from 2017 to 2020, an estimated 892 new individual foreign agents will complete Form NSD-6 (OMB 1124-0005). Based on sample testing, each respondent will need .23 hours to complete the form, which takes into consideration the improved e-File 4.0 webform features. The following factors were considered when creating the burden estimate: The estimated total number of respondents, the intuitive online FARA e-File registration process, and the prior collection of the necessary data to accurately complete the filing. NSD estimates that all of the approximately 892 respondents will fully complete the form.

6. An estimate of the total public burden (in hours) associated with the collection: The estimated public burden associated with this collection is 205.16 annual burden hours. It is estimated that respondents will take .23 hours to complete the form. (892 respondents × .23 hours = 205.16 annual burden hours).

7. Beginning September 23, 2019, NSD completed its ongoing multi-year design review, testing, and requirements enhancement efforts under the FARA e-File 4.0 initiative to a level where it began to rollout initial capabilities for new registrants only. NSD continues to make progress in enhancing the functionality of FARA e-File and Form NSD-6.

If additional information is required contact: Melody D. Braswell, Department Clearance Officer, United States Department of Justice, Justice Management Division, Policy and Planning Staff, Two Constitution Square, 145 N Street NE, 3E.405A, Washington, DC 20530.

Dated: April 8, 2020.
Melody D. Braswell,
Department Clearance Officer for PRA, U.S. Department of Justice.

[FR Doc. 2020-07727 Filed 4-10-20; 8:45 am]

BILLING CODE 4410-PF-P